CONSUMER PRODUCT SAFETY COMMISSION

16 CFR Part 1422

[CPSC Docket No. CPSC-2009-0087]

Recreational Off-Highway Vehicles (ROVs); Notice of Opportunity for Oral Presentation of Comments; Correction

AGENCY: Consumer Product Safety Commission.

ACTION: Notice of opportunity for oral presentation of comments; correction.

SUMMARY: The Consumer Product Safety Commission (CPSC, Commission) published a document in the Federal Register on December 3, 2014, announcing that on January 7, 2015, the Commission will provide an opportunity for interested persons to present oral comments on the notice of proposed rulemaking (NPR) the Commission issued, which proposes a standard to reduce the risk of injury associated with recreational off-highway vehicles (ROVs). The location for the meeting has changed.

DATES: Effective December 31, 2014.

ADDRESSES: The meeting will be held in the Hearing Room, 4th floor of Bethesda Towers Building, 4330 East West Highway, Bethesda, MD 20814. Requests to make oral presentations, and texts of oral presentations, should be captioned: “ROVs NPR; Oral Presentation” and submitted by email to cpsc-os@cpsc.gov, or mailed or delivered to the Office of the Secretary, Consumer Product Safety Commission, 4330 East-West Highway, Bethesda, MD 20814, not later than 5 p.m. EST on December 30, 2014.

FOR FURTHER INFORMATION CONTACT: For information about the purpose or subject matter of this meeting, contact Caroleene Paul, Project Manager, Directorate for Engineering Sciences, Consumer Product Safety Commission, 5 Research Place, Rockville, MD 20850; telephone (301) 987-2225; cpaul@cpsc.gov. For information about the procedure to make an oral presentation, contact Rockelle Hammond, Office of the Secretary, Consumer Product Safety Commission, 4330 East-West Highway, Bethesda, MD 20814; telephone (301) 504-7923.

SUPPLEMENTARY INFORMATION:

Correction

In the Federal Register of December 3, 2014, in FR Doc. 2014-28381, on page 71712, in the first column, correct the DATES and ADDRESSES captions to read:

Dates: The meeting will begin at 10 a.m., on January 7, 2015, at the U.S. Consumer Product Safety Commission in the Hearing Room, 4th floor of Bethesda Towers Building, 4330 East West Highway, Bethesda, MD 20814. Requests to make oral presentations and the written text of any oral presentations must be received by the Office of the Secretary not later than 5 p.m. Eastern Standard Time (EST) on December 30, 2014.

Addresses: The meeting will be held in the Hearing Room, 4th floor of Bethesda Towers Building, 4330 East West Highway, Bethesda, MD 20814. Requests to make oral presentations, and texts of oral presentations, should be captioned: “ROVs NPR; Oral Presentation” and submitted by email to cpsc-os@cpsc.gov, or mailed or delivered to the Office of the Secretary, Consumer Product Safety Commission, 4330 East-West Highway, Bethesda, MD 20814, not later than 5 p.m. EST on December 30, 2014.

Alberta E. Mills,
Acting Secretary, U.S. Consumer Product Safety Commission.

[FR Doc. 2014-30515 Filed 12-30-14; 8:45 am]

BILLING CODE 6355-01-P